ENVIRONMENTAL PROTECTION AGENCY

40 CFR Part 268

[EPA-HQ-RCRA-2007-0936; FRL-8538-7]

Land Disposal Restrictions: Site-Specific Treatment Variance for P- and U-Listed Hazardous Mixed Wastes Treated by Vacuum Thermal Desorption at the EnergySolutions' Facility in Clive, Utah

AGENCY: Environmental Protection Agency.

ACTION: Proposed rule.

SUMMARY: The Environmental Protection Agency (EPA or the Agency) is proposing to grant a site-specific treatment variance to EnergySolutions LLC (EnergySolutions) in Clive, Utah, for the treatment of certain P- and U-listed hazardous waste containing radioactive contamination (“mixed waste”) using vacuum thermal desorption (VTD). This variance is an alternative treatment standard to treatment by combustion (CMBST) required for these wastes under EPA rules implementing the land disposal restriction (LDR) provisions of the Resource Conservation and Recovery Act (RCRA). The Agency has determined that combustion of the solid treatment residue generated from the VTD unit is technically inappropriate due to the effective performance of the VTD unit. Once the P- and U-listed mixed waste are treated using VTD, the solid treatment residue can be land disposed without further treatment. This proposed treatment variance is conditioned upon EnergySolutions complying with a Waste Family Demonstration Testing (WFDT) plan specifically addressing the treatment of these P- and U-listed wastes, which is to be implemented through a RCRA Part B permit modification for the VTD unit.

DATES: Comments must be received on or before April 7, 2008.

ADDRESSES: Submit your comments, identified by Docket ID No. EPA-HQ-RCRA-2007-0936, by one of the following methods: www.regulations.gov: Follow the on-line instructions for submitting comments.

Email: rcra-docket@epa.gov and parra.juan@epa.gov. Attention Docket ID No. EPA-HQ-RCRA-2007-0936.

Fax: 202-566-9744. Attention Docket ID No. EPA-HQ-RCRA-2007-0936.

Mail: RCRA Docket (2822T), U.S. Environmental Protection Agency, 1200 Pennsylvania Avenue, NW., Washington, DC 20460. Attention Docket ID No. EPA-HQ-RCRA-2007-0936. Please include a total of 2 copies.

Hand Delivery: EPA/DC, EPA West, Room 3334, 1301 Constitution Ave., NW., Washington, DC. Such deliveries are only accepted during the Docket's normal hours of operation, and special arrangements should be made for deliveries of boxed information.

Instructions: Direct your comments to Docket ID No. EPA-HQ-RCRA-2007-0936. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the HQ-Docket Center, Docket ID No. EPA-HQ-RCRA-2007-0936, EPA West, Room 3334, 1301 Constitution Ave., NW., Washington, DC. The Docket Facility is open from 8:30 a.m. to 4:30 p.m., Monday through Friday, excluding legal holidays. The telephone number for the Public Reading Room is (202) 566-1744, and the telephone number for the RCRA Docket is (202) 566-0270. A reasonable fee may be charged for copying docket materials.

FOR FURTHER INFORMATION CONTACT: For more information on this rulemaking, contact Juan Parra, Hazardous Waste Minimization and Management Division, Office of Solid Waste (MC 5302 P), U.S. Environmental Protection Agency, 1200 Pennsylvania Ave., NW., Washington, DC 20460; telephone (703) 308-0478; fax (703) 308-8443; or parra.juan@epa.gov or Elaine Eby, Hazardous Waste Minimization and Management Division, Office of Solid Waste (MC 5302 P), U.S. Environmental Protection Agency, 1200 Pennsylvania Ave., NW., Washington, DC 20460; telephone (703) 308-8449; fax (703) 308-8443; or eby.elaine@epa.gov.

SUPPLEMENTARY INFORMATION:

Does This Action Apply to Me?

The only regulated entity that will be affected by this proposed rule is EnergySolutions located in Clive, Utah.

Why Is EPA Using a Proposed Rule?

This document proposes to take action by granting a site-specific treatment variance to EnergySolutions located in Clive, Utah. We also have published a direct final rule identical to this proposal in the “Rules and Regulations” section of this Federal Register because we view this action as noncontroversial and anticipate no significant adverse comment. We have explained our reasons for this action in the preamble to the direct final rule.

If we receive no significant adverse comment, we will not take further action on this proposed rule. If we do receive such adverse comment, we will publish a timely notice in the Federal Register informing the public that the final rule will be withdrawn due to adverse comment. We will address all public comments in any subsequent final rule based on this proposed rule. We do not intend to institute a second comment period on this action. Any parties interested in commenting must do so at this time. For further information about commenting on this rule, see the ADDRESSES section of this document.

Direct Final Rule and Location of Regulatory Text for This Proposal

The regulatory text for this proposal is identical to that for the direct final rule published in the Rules and Regulations section of this Federal Register. For further supplemental information, the detailed rationale for the proposal, and the regulatory revisions, see the information provided in the direct final rule published in the Rules and Regulations section of today's Federal Register.

Statutory and Executive Order Reviews

For a complete discussion of all of the administrative requirements applicable to this action, see the direct final rule in the Rules and Regulations section of this Federal Register.

Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

This site-specific treatment variance does not propose to create any new requirements. Rather, it proposes an alternative treatment standard for specific waste codes and applies to only one facility. Therefore, we hereby certify that this rule will not add any new regulatory requirements to small entities. This rule, therefore, does not require a regulatory flexibility analysis.

List of Subjects in 40 CFR Part 268

Environmental protection, Hazardous waste, Mixed waste and variances.

Dated: February 28, 2008.
Susan Parker Bodine,
Assistant Administrator, Office of Solid Waste and Emergency Response.

[FR Doc. E8-4428 Filed 3-5-08; 8:45 am]

BILLING CODE 6560-50-P